DEPARTMENT OF ENERGY

Federal Energy Regulatory Commission

Combined Notice of Filings No. 2

September 25, 2009.

Take notice that the Commission has received the following Natural Gas Pipeline Rate and Refund Report filings:

Docket Numbers: RP04-274-019.

Applicants: Kern River Gas Transmission Company.

Description: Kern River Gas Transmission Company submits revised tariff sheet to its FERC Gas Tariff, Second Revised Volume 1.

Filed Date: 09/22/2009.

Accession Number: 20090923-0030.

Comment Date: 5 p.m. Eastern Time on Monday, October 5, 2009.

Docket Numbers: RP09-1012-001.

Applicants: Quest Pipelines (KPC).

Description: Quest Pipeline (KPC) submits Second Revised Sheet 52 to replace Third Revised Sheet 52 to FERC Gas Tariff, Second Revised Volume 1 to update the Annual Charge Adjustment unit rates.

Filed Date: 09/23/2009.

Accession Number: 20090924-0026.

Comment Date: 5 p.m. Eastern Time on Monday, October 5, 2009.

Docket Numbers: RP09-1038-001.

Applicants: Viking Gas Transmission Company.

Description: Viking Gas Transmission Company submits a correction to their 9/9/09 filing of a non-conforming Firm Transportation Agreement with Northern States Power Company.

Filed Date: 09/23/2009.

Accession Number: 20090924-0025.

Comment Date: 5 p.m. Eastern Time on Monday, October 5, 2009.

Docket Numbers: RP09-856-002.

Applicants: Horizon Pipeline Company, L.L.C.

Description: Horizon Pipeline Company, LLC submits Second Substitute Original Sheet 304 to FERC Gas Tariff, Original Volume 1, to be effective 10/11/09.

Filed Date: 09/23/2009.

Accession Number: 20090924-0028.

Comment Date: 5 p.m. Eastern Time on Monday, October 5, 2009.

Docket Numbers: RP09-970-001.

Applicants: Transcontinental Gas Pipe Line Company.

Description: Transcontinental Gas Pipe Line Co, LLC submits Second Revised Sheet 4554 to its FERC Gas Tariff, Fourth Revised Volume 1, to be effective 10/1/09.

Filed Date: 09/23/2009.

Accession Number: 20090924-0027.

Comment Date: 5 p.m. Eastern Time on Monday, October 5, 2009.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-23857 Filed 10-2-09; 8:45 am]

BILLING CODE 6717-01-P